DEPARTMENT OF ENERGY

Federal Energy Regulatory Commission

Combined Notice of Filings #2

Take notice that the Commission received the following electric corporate filings:

Docket Numbers: EC16-145-000.

Applicants: NSTAR Electric Company.

Description: Application of NSTAR Electric Company Seeking Authorization for the Acquisition of Jurisdictional Facilities under FPA Section 203.

Filed Date: 7/8/16.

Accession Number: 20160708-5159.

Comments Due: 5 p.m. ET 7/29/16.

Take notice that the Commission received the following electric rate filings:

Docket Numbers: ER15-1861-000.

Applicants: Tucson Electric Power Company.

Description: Report Filing: Refund Report to be effective N/A.

Filed Date: 7/8/16.

Accession Number: 20160708-5117.

Comments Due: 5 p.m. ET 7/29/16.

Docket Numbers: ER15-1862-000.

Applicants: Tucson Electric Power Company.

Description: Report Filing: Refund Report to be effective N/A.

Filed Date: 7/8/16.

Accession Number: 20160708-5119.

Comments Due: 5 p.m. ET 7/29/16.

Docket Numbers: ER16-1707-002.

Applicants: Upper Peninsula Power Company.

Description: Tariff Amendment: 2nd Amended Project Services Agreement to be effective 7/16/2016.

Filed Date: 7/8/16.

Accession Number: 20160708-5113.

Comments Due: 5 p.m. ET 7/29/16.

Docket Numbers: ER16-2145-000.

Applicants: PacifiCorp.

Description: Compliance filing: PacifiCorp MBR Sales Tariff Compliance Filing per 155 FERC 61,249 to be effective 6/9/2016.

Filed Date: 7/8/16.

Accession Number: 20160708-5100.

Comments Due: 5 p.m. ET 7/29/16.

Docket Numbers: ER16-2146-000.

Applicants: Bishop Hill Energy II LLC.

Description: Compliance filing: BHE MBR Sellers Compliance Filing to be effective 6/9/2016.

Filed Date: 7/8/16.

Accession Number: 20160708-5125.

Comments Due: 5 p.m. ET 7/29/16.

Docket Numbers: ER16-2147-000.

Applicants: PJM Interconnection, L.L.C.

Description: Tariff Cancellation: Notice of Cancellation of ISA No. 3383, Queue No. X4-004 due to Withdraw to be effective 8/6/2016.

Filed Date: 7/8/16.

Accession Number: 20160708-5127.

Comments Due: 5 p.m. ET 7/29/16.

Docket Numbers: ER16-2148-000.

Applicants: CalEnergy, LLC.

Description: Compliance filing: BHE MBR Sellers Compliance Filing to be effective 6/9/2016.

Filed Date: 7/8/16.

Accession Number: 20160708-5128.

Comments Due: 5 p.m. ET 7/29/16.

Docket Numbers: ER16-2149-000.

Applicants: Southern California Edison Company.

Description: § 205(d) Rate Filing: Amended LGIA Added Facilities Rate—Garland Project to be effective 1/3/2016.

Filed Date: 7/8/16.

Accession Number: 20160708-5129.

Comments Due: 5 p.m. ET 7/29/16.

Docket Numbers: ER16-2150-000.

Applicants: CE Leathers Company.

Description: Compliance filing: BHE MBR Sellers Compliance Filing to be effective 6/9/2016.

Filed Date: 7/8/16.

Accession Number: 20160708-5130.

Comments Due: 5 p.m. ET 7/29/16.

Docket Numbers: ER16-2151-000.

Applicants: Cordova Energy Company LLC.

Description: Compliance filing: BHE MBR Sellers Compliance Filing to be effective 6/9/2016.

Filed Date: 7/8/16.

Accession Number: 20160708-5131.

Comments Due: 5 p.m. ET 7/29/16.

Docket Numbers: ER16-2152-000.

Applicants: Del Ranch Company.

Description: Compliance filing: BHE MBR Sellers Compliance Filing to be effective 6/9/2016.

Filed Date: 7/8/16.

Accession Number: 20160708-5134.

Comments Due: 5 p.m. ET 7/29/16.

Docket Numbers: ER16-2153-000.

Applicants: Elmore Company.

Description: Compliance filing: BHE MBR Sellers Compliance Filing to be effective 6/9/2016.

Filed Date: 7/8/16.

Accession Number: 20160708-5135.

Comments Due: 5 p.m. ET 7/29/16.

Docket Numbers: ER16-2154-000.

Applicants: Fish Lake Power LLC.

Description: Compliance filing: BHE MBR Sellers Compliance Filing to be effective 6/9/2016.

Filed Date: 7/8/16.

Accession Number: 20160708-5136.

Comments Due: 5 p.m. ET 7/29/16.

Docket Numbers: ER16-2155-000.

Applicants: Grande Prairie Wind, LLC.

Description: Compliance filing: BHE MBR Sellers Compliance Filing to be effective 6/9/2016.

Filed Date: 7/8/16.

Accession Number: 20160708-5138.

Comments Due: 5 p.m. ET 7/29/16.

Docket Numbers: ER16-2156-000.

Applicants: Marshall Wind Energy LLC.

Description: Compliance filing: BHE MBR Sellers Compliance Filing to be effective 6/9/2016.

Filed Date: 7/8/16.

Accession Number: 20160708-5140.

Comments Due: 5 p.m. ET 7/29/16.

Docket Numbers: ER16-2157-000.

Applicants: Pinyon Pines Wind I, LLC.

Description: Compliance filing: BHE MBR Sellers Compliance Filing to be effective 6/9/2016.

Filed Date: 7/8/16.

Accession Number: 20160708-5142.

Comments Due: 5 p.m. ET 7/29/16.

Docket Numbers: ER16-2158-000.

Applicants: Pinyon Pines Wind II, LLC.

Description: Compliance filing: BHE MBR Sellers Compliance Filing to be effective 6/9/2016.

Filed Date: 7/8/16.

Accession Number: 20160708-5145.

Comments Due: 5 p.m. ET 7/29/16.

Docket Numbers: ER16-2159-000.

Applicants: Salton Sea Power Generation Company.

Description: Compliance filing: BHE MBR Sellers Compliance Filing to be effective 6/9/2016.

Filed Date: 7/8/16.

Accession Number: 20160708-5148.

Comments Due: 5 p.m. ET 7/29/16.

Docket Numbers: ER16-2160-000.

Applicants: Salton Sea Power L.L.C.

Description: Compliance filing: BHE MBR Sellers Compliance Filing to be effective 6/9/2016.

Filed Date: 7/8/16.

Accession Number: 20160708-5150.

Comments Due: 5 p.m. ET 7/29/16.

Docket Numbers: ER16-2161-000.

Applicants: Saranac Power Partners, L.P.

Description: Compliance filing: BHE MBR Sellers Compliance Filing to be effective 6/9/2016.

Filed Date: 7/8/16.

Accession Number: 20160708-5152.

Comments Due: 5 p.m. ET 7/29/16.

Docket Numbers: ER16-2162-000.

Applicants: Solar Star California XIX, LLC.

Description: Compliance filing: BHE MBR Sellers Compliance Filing to be effective 6/9/2016.

Filed Date: 7/8/16.

Accession Number: 20160708-5155.

Comments Due: 5 p.m. ET 7/29/16.

Docket Numbers: ER16-2163-000.

Applicants: Solar Star California XX, LLC.

Description: Compliance filing: BHE MBR Sellers Compliance Filing to be effective 6/9/2016.

Filed Date: 7/8/16.

Accession Number: 20160708-5158.

Comments Due: 5 p.m. ET 7/29/16.

Docket Numbers: ER16-2164-000.

Applicants: Topaz Solar Farms LLC.

Description: Compliance filing: BHE MBR Sellers Compliance Filing to be effective 6/9/2016.

Filed Date: 7/8/16.

Accession Number: 20160708-5162.

Comments Due: 5 p.m. ET 7/29/16.

Docket Numbers: ER16-2165-000.

Applicants: Vulcan/BN Geothermal Power Company.

Description: Compliance filing: BHE MBR Sellers Compliance Filing to be effective 6/9/2016.

Filed Date: 7/8/16.

Accession Number: 20160708-5166.

Comments Due: 5 p.m. ET 7/29/16.

Docket Numbers: ER16-2166-000.

Applicants: Yuma Cogeneration Associates.

Description: Compliance filing: BHE MBR Sellers Compliance Filing to be effective 6/9/2016.

Filed Date: 7/8/16.

Accession Number: 20160708-5170.

Comments Due: 5 p.m. ET 7/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 08, 2016.
Nathaniel J. Davis, Sr.,
Deputy Secretary.

[FR Doc. 2016-16661 Filed 7-13-16; 8:45 am]

BILLING CODE 6717-01-P